DEPARTMENT OF AGRICULTURE

Forest Service

Notice of Lincoln County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Kootenai National Forests' Lincoln County Resource Advisory Committee will meet Monday, June 3, 2002 at 6:30 p.m. in Libby, Montana for a business meeting. The meeting is open to the public.

DATES: June 3, 2002.

ADDRESSES: The meeting will be held at the Kootenai National Forest Supervisor's Office, located at 1101 U.S. Highway 2 West, Libby, MT.

FOR FURTHER INFORMATION CONTACT: Barbara Edgmon, Committee Coordinator at (406) 293-6211.

SUPPLEMENTARY INFORMATION: Agenda topics include reviewing project proposals and receiving public comment.

Dated: May 13, 2002.
Bob Castaneda,
Forest Supervisor.

[FR Doc. 02-12629 Filed 5-20-02; 8:45 am]

BILLING CODE 3410-11-M